SMALL BUSINESS ADMINISTRATION

[Declaration of Disaster #3473]

State of Alaska; Amendment #1

In accordance with information received from the Federal Emergency Management Agency, the above-numbered declaration is hereby amended to reopen the incident period for this disaster due to additional flooding.

All other information remains the same, i.e., the deadline for filing applications for economic injury is September 4, 2003.

(Catalog of Federal Domestic Assistance Program Nos. 59002 and 59008)

Dated: December 23, 2002.
Allan I. Hoberman,
Acting Associate Administrator for Disaster Assistance.

[FR Doc. 02-32931 Filed 12-27-02; 8:45 am]

BILLING CODE 8025-01-P